DEPARTMENT OF TRANSPORTATION

Federal Aviation Administration

14 CFR Part 39

[Docket No. FAA-2010-0277; Directorate Identifier 2009-NM-217-AD; Amendment 39-17031; AD 2012-08-14]

RIN 2120-AA64

Airworthiness Directives; The Boeing Company Airplanes

AGENCY: Federal Aviation Administration (FAA), DOT.

ACTION: Final rule.

SUMMARY: We are adopting a new airworthiness directive (AD) for certain The Boeing Company Model 767 airplanes. This AD was prompted by reports of cracking in the upper wing skin at the fastener holes common to the pitch load fittings of the inboard and outboard front spar, which could result in the loss of the strut-to-wing upper link load path and possible separation of a strut and engine from the airplane during flight. This AD requires repetitive inspections to detect fatigue cracking in the wing skin, and corrective actions if necessary. We are issuing this AD to correct the unsafe condition on these products.

DATES: This AD is effective May 31, 2012.

The Director of the Federal Register approved the incorporation by reference of a certain publication listed in the AD as of May 31, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Berhane Alazar, Aerospace Engineer, Airframe Branch, ANM-120S, FAA, Seattle Aircraft Certification Office (ACO), 1601 Lind Avenue SW., Renton, Washington 98057-3356; phone: 425-917-6577; fax: 425-917-6590; email: berhane.alazar@faa.gov.

SUPPLEMENTARY INFORMATION:

Discussion

We issued a supplemental notice of proposed rulemaking (SNPRM) to amend 14 CFR part 39 to include an AD that would apply to the specified products. That SNPRM was published in the Federal Register on October 11, 2011 (76 FR 62663). The original NPRM (75 FR 15357, March 29, 2010) proposed to require repetitive inspections to detect fatigue cracking in the upper wing skin at the fastener holes common to the pitch load fittings of the inboard and outboard front spar, and corrective actions if necessary. The SNPRM proposed to revise that NPRM by reducing compliance times.

Comments

We gave the public the opportunity to participate in developing this AD. The following presents the comments received on the SNPRM (76 FR 62663, October 11, 2011) and the FAA's response to each comment.

Supportive Comment

Boeing concurs with the contents of the SNPRM (76 FR 62663, October 11, 2011).

Request for Relief From Alternative Methods of Compliance (AMOC) Requirement

Aviation Partners Boeing (APB) requested that we revise the SNPRM (76 FR 62663, October 11, 2011) to state that supplemental type certificate (STC) ST01920SE (http://rgl.faa.gov/Regulatory_and_Guidance_Library/rgstc.nsf/0/082838ee177dbf62862576a4005cdfc0/$FILE/ST01920SE.pdf), has no impact on the inspection intervals and corrective actions. APB stated that structural analysis shows that the inspection intervals and required corrective actions in the SNPRM are unaffected by the installation of the APB winglets; therefore, there is no need for an AMOC.

We agree with the request. We must receive a request for approval of an AMOC, as required by 14 CFR 39.17 (Section 39.17 of the Federal Aviation Regulations), if a change in a product affects the ability to accomplish the actions required by the AD. We agree that the referenced STC does not affect accomplishment of the requirements of this AD, and an AMOC is not necessary for a “change in product” AMOC approval request. We have therefore added this provision in new Note 1 to paragraph (c) of this AD.

Request To Revise Paragraph (g) of the SNPRM (76 FR 62663, October 11, 2011)

Delta requested that we revise paragraph (g) of the SNPRM (76 FR 62663, October 11, 2011) to include the following statement:

If, during opening for access to perform Part 2 inspection [of the Accomplishment Instructions of Boeing Alert Service Bulletin 767-57A0117, Revision 1, dated March 2, 2011], a freeze plug is found in the upper skin at any fastener location included in the service bulletin, then the inspections per Part 2 must be discontinued, and Part 1 inspections must be used for that wing for that visit and for all subsequent repeat inspections.

Delta stated that since open-hole eddy current inspections of any freeze plug would not detect cracks, the requirement to use Part 2 inspections should not be applied to any freeze plug including previously accomplished repairs.

Although we agree with the commenter's characterization of the requirements, we disagree that it is necessary to make this distinction in the AD. Boeing Alert Service Bulletin 767-57A0117, Revision 1, dated March 2, 2011, clearly states which inspection must be done, but we have added “as applicable” in the first sentence of paragraph (g) of this AD, to clarify that only the actions that apply to the individual airplane are required.

Additional Changes to This Final Rule

We have revised the heading and wording for paragraph (i) of this AD. These changes do not affect the intent of this AD.

Conclusion

We reviewed the relevant data, considered the comments received, and determined that air safety and the public interest require adopting the AD with the changes described previously and minor editorial changes. We have determined that these minor changes:

• Are consistent with the intent that was proposed in the SNPRM (76 FR 62663, October 11, 2011) for correcting the unsafe condition; and

• Do not add any additional burden upon the public than was already proposed in the SNPRM (76 FR 62663, October 11, 2011).

We also determined that these changes will not increase the economic burden on any operator or increase the scope of the AD.

Costs of Compliance

We estimate that this AD affects 417 airplanes of U.S. registry.

We estimate the following costs to comply with this AD:

Estimated Costs
Action | Labor cost | Parts cost | Cost per product | Cost on U.S. operators
Inspection | 10 work-hours × $85 per hour = $850 per inspection cycle | $28,836 | $29,686 | $12,379,062

We estimate the following costs to do any necessary repairs that would be required based on the results of the inspection. We have no way of determining the number of aircraft that might need these repairs:

On-Condition Costs
Action | Labor cost | Parts cost | Cost per product
Hole repair | 1 work-hour per hole × maximum 48 holes per airplane × $85 per hour = up to $4,080 per airplane | $0 | Up to $4,080.
Fastener replacement | 1 work-hour per hole × maximum 48 holes per airplane × $85 per hour = up to $4,080 per airplane | 0 | Up to $4,080.
Freeze plug repair | 1 work-hour per hole × maximum 48 holes per airplane × $85 per hour = up to $4,080 per airplane | 0 | Up to $4,080.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-08-14 The Boeing Company: Amendment 39-17031; Docket No. FAA-2010-0277; Directorate Identifier 2009-NM-217-AD.

(a) Effective Date

This AD is effective May 31, 2012.

(b) Affected ADs

None.

(c) Applicability

This AD applies to The Boeing Company Model 767-200, -300, -300F, and -400ER series airplanes; certificated in any category; as identified in Boeing Alert Service Bulletin 767-57A0117, Revision 1, dated March 2, 2011.

Note 1 to paragraph (c) of this AD: Supplemental Type Certificate (STC) ST01920SE (http://rgl.faa.gov/Regulatory_and_Guidance_Library/rgstc.nsf/0/082838ee177dbf62862576a4005cdfc0/$FILE/ST01920SE.pdf) does not affect the ability to accomplish the actions required by this AD. Therefore, for airplanes on which STC ST01920SE is installed, a “change in product” alternative method of compliance (AMOC) approval request is not necessary to comply with the requirements of 14 CFR 39.17. For all other AMOC requests, the operator must request approval for an AMOC according to paragraph (j) of this AD.

(d) Subject

Joint Aircraft System Component (JASC)/Air Transport Association (ATA) of America Code 57, Wings.

(e) Unsafe Condition

This AD was prompted by reports of cracking in the upper wing skin at the fastener holes common to the pitch load fittings of the inboard and outboard front spar. We are issuing this AD to detect and correct fatigue cracking in the upper surface of the upper wing skin at the fastener holes common to the pitch load fittings of the inboard and outboard front spar, which could result in the loss of the strut-to-wing upper link load path and possible separation of a strut and engine from the airplane during flight.

(f) Compliance

Comply with this AD within the compliance times specified, unless already done.

(g) Initial and Repetitive Inspections

Except as provided by paragraph (h) of this AD, at the applicable time specified in paragraph 1.E., “Compliance,” of Boeing Alert Service Bulletin 767-57A0117, Revision 1, dated March 2, 2011: Do detailed and ultrasonic inspections, or do an open-hole high-frequency eddy current inspection, as applicable, to detect cracking in the upper surface of the upper wing skin at the fastener holes common to the pitch load fittings of the inboard and outboard front spar; and do all applicable corrective actions; in accordance with the Accomplishment Instructions of Boeing Alert Service Bulletin 767-57A0117, Revision 1, dated March 2, 2011, except as required by paragraph (h) of this AD. Do all applicable corrective actions before further flight. Repeat the applicable inspections thereafter at intervals not to exceed the applicable time specified in paragraph 1.E., “Compliance,” of Boeing Alert Service Bulletin 767-57A0117, Revision 1, dated March 2, 2011.

(h) Exceptions to the Service Bulletin

(1) If any cracking is found during any inspection required by this AD, and Boeing Alert Service Bulletin 767-57A0117, Revision 1, dated March 2, 2011, specifies to contact Boeing for additional instructions: Before further flight, repair the cracking using a method approved in accordance with the procedures specified in paragraph (j) of this AD.

(2) Where Boeing Alert Service Bulletin 767-57A0117, Revision 1, dated March 2, 2011, specifies a compliance time after the date of the original issue of Boeing Alert Service Bulletin 767-57A0117, dated October 1, 2009: This AD requires compliance within the specified compliance time after the effective date of this AD.

(i) Credit for Previous Actions

This paragraph provides credit for the actions required by paragraph (g) of this AD, if those actions were performed before the effective date of this AD using Boeing Alert Service Bulletin 767-57A0117, dated October 1, 2009.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle Aircraft Certification Office (ACO) to make those findings. For a repair method to be approved, the repair must meet the certification basis of the airplane, and the approval must specifically refer to this AD.

(k) Related Information

For more information about this AD, contact Berhane Alazar, Aerospace Engineer, Airframe Branch, ANM-120S, FAA, Seattle Aircraft Certification Office (ACO), 1601 Lind Avenue SW., Renton, Washington 98057-3356; phone: 425-917-6577; fax: 425-917-6590; email: berhane.alazar@faa.gov. Or, email information to 9-ANM-Seattle-ACO-AMOC-Requests@faa.gov.

(l) Material Incorporated by Reference

(1) You must use the following service information to do the actions required by this AD, unless the AD specifies otherwise. The Director of the Federal Register approved the incorporation by reference (IBR) of the following service information under 5 U.S.C. 552(a) and 1 CFR part 51.

(i) Boeing Alert Service Bulletin 767-57A0117, Revision 1, dated March 2, 2011.

(2) For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr_locations.html.

Issued in Renton, Washington, on April 11, 2012.
John P. Piccola,
Acting Manager, Transport Airplane Directorate, Aircraft Certification Service.

[FR Doc. 2012-9949 Filed 4-25-12; 8:45 am]

BILLING CODE 4910-13-P